DEPARTMENT OF COMMERCE

International Trade Administration

[A-893-002, A-487-001, A-546-001, A-475-845, A-565-804, A-455-807, A-856-002, A-583-873]

Mattresses From Bosnia and Herzegovina, Bulgaria, Burma, Italy, the Philippines, Poland, Slovenia, and Taiwan: Antidumping Duty Orders; Correction

AGENCY: Enforcement and Compliance, International Trade Administration, Department of Commerce.

ACTION: Notice; correction.

SUMMARY: The U.S. Department of Commerce (Commerce) published notice in the Federal Register of July 11, 2024, containing the antidumping duty (AD) orders on mattresses from Bosnia and Herzegovina, Bulgaria, Burma, Italy, the Philippines, Poland, Slovenia, and Taiwan. This notice incorrectly listed the name of an exporter/producer subject to the AD order on mattresses from Italy as Gruppo Buoninfante Industriale S.P.A. in the section entitled “Estimated Dumping Margins.”

FOR FURTHER INFORMATION CONTACT: Adam Simons, AD/CVD Operations, Office IX, Enforcement and Compliance, International Trade Administration, U.S. Department of Commerce, 1401 Constitution Avenue NW, Washington, DC 20230; telephone: (202) 482-6172.

SUPPLEMENTARY INFORMATION:

Background

On July 11, 2024, Commerce published in the Federal Register its AD orders on mattresses from Bosnia and Herzegovina, Bulgaria, Burma, Italy, the Philippines, Poland, Slovenia, and Taiwan.¹ In this notice, Commerce incorrectly listed the name of one of the producers/exporters subject to the AD order on mattresses from Italy as Gruppo Buoninfante Industriale S.P.A. in the section entitled “Estimated Dumping Margins.”

¹ See Mattresses From Bosnia and Herzegovina, Bulgaria, Burma, Italy, the Philippines, Poland, Slovenia, and Taiwan: Antidumping Duty Orders, 89 FR 56851 (July 11, 2024).

Correction

In the Federal Register of July 11, 2024, in FR Doc 2024-15261, on page 56853, in the first column, in the section entitled “Estimated Dumping Margins” in the table applicable to Italy, correct the name Gruppo Buoninfante Industriale S.P.A. to be Gruppo Industriale Buoninfante S.P.A.

Notification to Interested Parties

This notice is issued and published in accordance with section 736(a) of the Tariff Act of 1930, as amended, and 19 CFR 351.211(b).

Dated: August 5, 2024.
Scot Fullerton,
Acting Deputy Assistant Secretary for Antidumping and Countervailing Duty Operations.

[FR Doc. 2024-17750 Filed 8-8-24; 8:45 am]

BILLING CODE 3510-DS-P